DEPARTMENT OF ENERGY

Federal Energy Regulatory Commission

[Docket Nos. AD06-2-000; ER06-406-000; ER02-2330-040; ER03-345-006; ER01-3001-014]

Assessment of Demand Respose Resources; PJM Interconnection, L.L.C.; ISO New England Inc.; ISO New England Inc.; New York Independent Transmission System Operator, Inc.; Notice of Agenda and Procedures for Technical Conference on Demand Response and Advanced Metering

January 13, 2006.

This notice establishes the agenda and procedures for the technical conference to be held on Wednesday, January 25, 2006, at 9:00 am (EST),¹ on demand response and advanced metering regarding issues raised by the Energy Policy Act of 2005 (EPAct 2005) section 1252(e)(3).² This notice includes additional dockets numbers because those filings all contain issues associated with demand response and those issues may be discussed within presentations. The technical conference will be held in the Commission Meeting Room at the Federal Energy Regulatory Commission, 888 First Street, NE., Washington, DC 20426. The conference will be open for the public to attend and advance registration is not required. This will be a staff conference, but Commissioners may attend.

¹ The initial notice setting the date of this technical conference was issued on December 12, 2005. 70 Fed. Reg. 74,804 (2005).

² Energy Policy Act of 2005, Pub. L. No. 109-58, § 1252(e)(3), 119 Stat. 594, (2005) (EPAct section 1252(e)(3)). Section 1252(e)(3) requires the Commission, not later than one year after the date of enactment of the EPAct 2005, to draft and publish a report, by appropriate region, that assesses demand response resources, including those available from all consumer classes. Specifically, the Commission must identify and review:

(A) Saturation and penetration rates of advanced meters and communications technologies, devices and systems;

(B) existing demand response programs and time-based rate programs;

(C) the annual resource contribution of demand resources;

(D) the potential for demand response as a quantifiable, reliable resource for regional planning purposes;

(E) steps taken to ensure that, in regional transmission planning and operations, demand resources are provided equitable treatment as a quantifiable, reliable resource relative to the resource obligations of any load-serving entity, transmission provider, or transmitting party; and

(F) regulatory barriers to improved customer participation in demand response, peak reduction and critical period pricing programs.

The agenda for this conference is attached. In order to allot sufficient time for questions and responses, each speaker will be provided with five minutes for prepared remarks. Due to the limitation of time, slides and graphic displays (i.e, PowerPoint® presentations) will not be permitted during the conference. Presenters who want to distribute copies of their prepared remarks or handouts should bring 100 double-sided copies to the technical conference. Presenters who wish to include comments, presentations, or handouts in the record for this proceeding should file their comments with the Commission. Comments may either be filed on paper or electronically via the eFiling link on the Commission's Web site at http://www.ferc.gov.

A free webcast of this event will be available through http://www.ferc.gov. Anyone with Internet access who desires to view this event can do so by navigating to http://www.ferc.gov's Calendar of Events and locating this event in the Calendar. The event will contain a link to its Webcast. The Capitol Connection provides technical support for the webcasts. It also offers access to this event via television in the Washington, DC area and via phone bridge for a fee. Visit http://www.CapitolConnection.org or contact Danelle Perkowski or David Reininger at the Capitol Connection 703-993-3100 for information about this service.

Commission conferences are accessible under section 508 of the Rehabilitation Act of 1973. For accessibility accommodations please send an e-mail to accessibility@ferc.gov or call toll free 866-208-3372 (voice) or 202-208-1659 (TTY), or send a FAX to 202-208-2106 with the required accommodations.

For further information on the technical conference, please contact:

David Kathan (Technical Information), Office of Markets, Tariffs and Rates, Federal Energy Regulatory Commission, 888 First Street, NE., Washington, DC 20426, (202) 502-6404, David.Kathan@ferc.gov.

Aileen Roder (Legal Information), Office of the General Counsel, Federal Energy Regulatory Commission, 888 First Street, NE., Washington, DC 20426, (202) 502-6022, Aileen.Roder@ferc.gov.

Magalie R. Salas,
Secretary.

[FR Doc. E6-611 Filed 1-19-06; 8:45 am]

BILLING CODE 6717-01-P